DEPARTMENT OF COMMERCE

International Trade Administration

[Application No. 97-12A003]

Export Trade Certificate of Review

ACTION: Notice of Application (97-12A003) to amend the Export Trade Certificate of Review held by the Association for the Administration of Rice Quotas, Inc.

SUMMARY: The Office of Trade and Economic Analysis (“OTEA”) of the International Trade Administration, Department of Commerce, has received an application to amend an Export Trade Certificate of Review (“Certificate”). This notice summarizes the proposed amendment and requests comments relevant to whether the amended Certificate should be issued.

FOR FURTHER INFORMATION CONTACT: Joseph Flynn, Director, Office of Trade and Economic Analysis, International Trade Administration, (202) 482-5131 (this is not a toll-free number) or email at etca@trade.gov.

SUPPLEMENTARY INFORMATION: Title III of the Export Trading Company Act of 1982 (15 U.S.C. 4001-21) authorizes the Secretary of Commerce to issue Export Trade Certificates of Review. An Export Trade Certificate of Review protects the holder and the members identified in the Certificate from State and Federal government antitrust actions and from private treble damage antitrust actions for the export conduct specified in the Certificate and carried out in compliance with its terms and conditions. Section 302(b)(1) of the Export Trading Company Act of 1982 and 15 CFR 325.6(a) require the Secretary to publish a notice in the Federal Register identifying the applicant and summarizing its proposed export conduct.

Request for Public Comments

Interested parties may submit written comments relevant to the determination whether an amended Certificate should be issued. If the comments include any privileged or confidential business information, it must be clearly marked and a nonconfidential version of the comments (identified as such) should be included. Any comments not marked as privileged or confidential business information will be deemed to be nonconfidential.

An original and five (5) copies, plus two (2) copies of the nonconfidential version, should be submitted no later than 20 days after the date of this notice to: Export Trading Company Affairs, International Trade Administration, U.S. Department of Commerce, Room 7025-X, Washington, DC 20230.

Information submitted by any person is exempt from disclosure under the Freedom of Information Act (5 U.S.C. 552). However, nonconfidential versions of the comments will be made available to the applicant if necessary for determining whether or not to issue the Certificate. Comments should refer to this application as “Export Trade Certificate of Review, application number 97-12A003.”

The original Certificate for the Association for the Administration of Rice Quotas, Inc., was issued on January 21, 1998 (63 FR 4220, January 28, 1998). A summary of the current application for an amendment follows.

Summary of the Application

Applicant: Association for the Administration of Rice Quotas, Inc. (“AARQ”), c/o Jess Errecarte, AARQ Chairman, 1550 Drew Ave Suite 150 Davis, California 95616.

Contact: Matthew R. Elkin, Counsel, Morgan, Lewis & Bockius LLP, Telephone (202) 739-5285.

Application No.: 97-12A003.

Date Deemed Submitted: January 7, 2014.

Proposed Amendment: AARQ seeks to amend its Certificate to:

1. Remove the following member companies from AARQ Certificate: Newfield Rice, Inc., Miramar, Florida and The Connell Company for the activities of itself and its two divisions, Connell Rice & Sugar Co. and Connell International Company, Berkeley Heights, New Jersey

2. Change the names of the following AARQ members: Commodity Specialists Company, Minneapolis, Minnesota to Sinamco Trading Inc., Minneapolis, Minnesota and Nidera US LLC, Wilton, Connecticut (a subsidiary of Nidera Handelscompagnie BV (Netherlands) to Nidera US LLC, Wilton, Connecticut (a subsidiary of Nidera BV (Netherlands))

AARQ's proposed amendment of its Export Trade Certificate of Review would result in the following membership list:

ADM Latin, Inc., Decatur, Illinois, ADM Grain Company, Decatur, Illinois, and ADM Rice, Inc., Tarrytown, New York (subsidiaries of Archer Daniels Midland Company)

American Commodity Company, LLC, Williams, California

Associated Rice Marketing Cooperative (ARMCO), Richvale, California

Bunge Milling, St. Louis, Missouri (a subsidiary of Bunge North America, White Plains, New York) dba PIRMI (Pacific International Rice Mills), Woodland, California

Cargill Americas, Inc., and its subsidiary CAI Trading LLC, Coral Gables, Florida

Family & Sons, Inc., Miami, Florida

Farmers' Rice Cooperative, Sacramento, California

Farmers Rice Milling Company, Inc., Lake Charles, Louisiana

Far West Rice, Inc., Durham, California

Gulf Pacific Rice Co., Inc., Houston, Texas; Gulf Rice Milling, Inc., Houston, Texas; and Harvest Rice, Inc., McGehee, Arkansas (each a subsidiary of Gulf Pacific, Inc., Houston, Texas)

Gulf Pacific Disc, Inc., Houston, Texas

Itochu International Inc., Portland, Oregon (a subsidiary of Itochu Corporation (Japan))

JFC International Inc., Los Angeles, California (a subsidiary of Kikkoman Corp.)

JIT Products, Inc., Davis, California

Kennedy Rice Dryers, L.L.C., Mer Rouge, Louisiana

Kitoku America, Inc., Burlingame, California (a subsidiary of Kitoku Shinryo Co., Ltd. (Japan))

LD Commodities Rice Merchandising LLC, Wilton, Connecticut, and LD Commodities Interior Rice Merchandising LLC, Kansas City, Missouri (subsidiaries of Louis Dreyfus Commodities LLC, Wilton, Connecticut)

Louisiana Rice Mill, LLC, Mermentau, Louisiana

Nidera, US LLC, Wilton, Connecticut (a subsidiary of Nidera BV (Netherlands))

Nishimoto Trading Co., Ltd., Santa Fe Springs, California (a subsidiary of Nishimoto Trading Company, Ltd. (Japan))

Noble Logistic USA Inc., Portland, Oregon

Producers Rice Mill, Inc., Stuttgart, Arkansas

PS International, LLC dba PS International Ltd., Chapel Hill, North Carolina (jointly owned by Seaboard Corporation, Kansas City, Missouri and PS Trading Inc., Chapel Hill, North Carolina)

Riceland Foods, Inc., Stuttgart, Arkansas

Rickmers Rice USA, Inc., Knoxville, Tennessee

Riviana Foods Inc., Houston, Texas (a subsidiary of Ebro Foods, S.A. (Spain)) for the activities of itself and its subsidiary, American Rice, Inc., Houston, Texas

Sinamco Trading, Inc., Minneapolis, Minnesota

SunFoods LLC, Woodland, California

SunWest Foods, Inc., Davis, California

Texana Rice, Inc., Louise, Texas

The Sun Valley Rice Co., LLC, Arbuckle, California

TRC Trading Corporation, Roseville, California (a subsidiary of TRC Group Inc., Roseville California) and its subsidiary Gulf Rice Arkansas II, LLC, Houston, Texas

Trujillo & Sons, Inc., Miami, Florida

Veetee Rice, Inc., Great Neck, New York (a subsidiary of Veetee Investments Corporation (Bahamas))

Wehah Farm, Inc., dba Lundberg Family Farms, Richvale, California.

Dated: January 23, 2014.
Joseph Flynn,
Director, Office of Trade and Economic Analysis, International Trade Administration.

[FR Doc. 2014-01766 Filed 1-28-14; 8:45 am]

BILLING CODE 3510-DR-P